DEPARTMENT OF DEFENSE

Department of the Army, Corps of Engineers

Final Supplemental Environmental Impact Statement for the Wyoming Valley Levee Raising Project, Wilkes-Barre, PA

AGENCY: Department of the Army, U.S. Army Corps of Engineers, DoD.

ACTION: Notice of availability.

SUMMARY: The U.S. Army Corps of Engineers (USACE), Baltimore District announces the availability of the Final Supplemental Environmental Impact Statement (SEIS) for the design modifications and recreational enhancements to the Wyoming Valley Levee Raising Project at the Wilkes-Barre, Pennsylvania River Commons. The Final SEIS investigates the potential environmental effects of an array of alternative plans based on the conceptual riverfront plan for Wilkes-Barre. The preferred alternative includes the addition of two portals through the levee, a river landing, fishing platform, and an amphitheater and stage.

The Draft SEIS was released on a 45-day review and comment period during August and September 2004, and a Notice of Availability was published in the Federal Register under the U.S. Environmental Protection Agency on August 13, 2004. Comments received on the Draft SEIS and our responses are included in the Final SEIS (Appendices G and H).

DATES: A Record of Decision may be signed no sooner than 30 days after publication of the notice for this action, as stated in 40 CFR 1506.10(b)(2).

ADDRESSES: To obtain copies of the Final SEIS, contact Jo Ann Grundy, (410) 962-6136 or write to: U.S. Army Corps of Engineers, Baltimore District, Attn: Jo Ann Grundy, CENAB-PL-P, PO Box 1715, Baltimore, MD 21203-1715.

FOR FURTHER INFORMATION CONTACT: Jo Ann Grundy, (410) 962-6136 or (800) 295-1610.

SUPPLEMENTARY INFORMATION: Federal flood control projects along the Susquehanna River have protected communities in the Wyoming Valley of northeastern Pennsylvania since the late 1930's. However, the June 1972, Tropical Storm Agnes struck, and the Susquehanna River overtopped the levee system in the Valley, causing severe damage in many communities. In response, in 1986 the U.S. Congress authorized raising the Wyoming Valley levee system and implementing other flood damage reduction measures. Construction of the levee raising started in the Spring of 1997 and continues.

In the urbanized area of Wyoming Valley, including the City of Wilkes-Barre, the levee and floodwall system have created a physical, psychological and aesthetic barrier between the communities along the Susquehanna River. Through public workshops in 1999, a conceptual plan was developed for the City of Wilkes-Barre riverfront that would restore the connection between the city and the river. The plan consists of a riverfront park to be located on the riverside of the levee at downtown Wilkes-Barre, which would be accessible through two portals (i.e. gates) in the levee/floodwall system. The Luzerne County Flood Protection Authority, which is the non-Federal project partner for the Wyoming Valley Levee Raising Project, requested that the conceptual riverfront plan be incorporated into the project. This request initiated a general reevaluation report and this Final SEIS to investigate the potential environmental effects to alternative plans based on the conceptual riverfront plan.

The preferred plan for the riverfront park includes two portals, a river landing, a fishing platform, and an amphitheater and stage. In addition to the features, miscellaneous recreational amenities (e.g., lights, seating areas with benches, trees/vegetation, educational kiosks, and trash receptacles) would be included. Also, the existing access road at the riverside of the levee would be paved.

USACE has distributed copies of the Final SEIS to appropriate members of Congress, State and local government officials, Federal agencies, and other interested parties. Copies are also available at the following locations:

(1) Osterhout Free Library, 71 South Franklin Street, Wilkes-Barre, PA 18701.

(2) Osterhout Free Library, South Branch, 2 Airy Street, Wilkes-Barre, PA 18702.

(3) D. Leonard Corgan Library, King's College, 14 West Jackson Street, Wilkes-Barre, PA 18711.

You may view the Final SEIS and related information on our Web page at http://www.nab.usace.arny.mil/publications/non-reg_pub.htm.

The Final SEIS has been prepared in accordance with (1) The National Environmental Policy Act (NEPA) of 1969, as amended (42 U.S.C. 4321 et seq.), (2) regulations of the Council on Environmental Quality for implementing the procedural provisions of NEPA (40 CFR parts 1500-1508), and (3) USACE regulations implementing NEPA (ER-200-2-2).

Jo Ann Grundy,
Biologist.

[FR Doc. 05-13855 Filed 7-13-05; 8:45 am]

BILLING CODE 3710-41-M